SECURITIES AND EXCHANGE COMMISSION

[Release No. 59056]

Order Granting Registration of Egan-Jones Rating Company To Add Two Additional Classes of Credit Ratings

December 4, 2008.

Egan-Jones Rating Company, a nationally recognized statistical rating organization (“NRSRO”), furnished to the Securities and Exchange Commission (“Commission”) an application under Section 15E of the Securities Exchange Act of 1934 (“Exchange Act”) to register for the two classes of credit ratings described in clauses (iv) and (v) of Section 3(a)(62)(B) of the Exchange Act. The Commission finds that the application furnished by Egan-Jones Rating Company is in the form required by Exchange Act Section 15E, Exchange Act Rule 17g-1 (17 CFR 240.17g-1), and Form NRSRO (17 CFR 249b.300).

Based on the application, the Commission finds that the requirements of Section 15E of the Exchange Act are satisfied.

Accordingly,

It Is Ordered, under paragraph (a)(2) of Section 15E of the Exchange Act, that the registration of Egan-Jones Rating Company with the Commission for the classes of credit ratings described in clauses (iv) and (v) of Section 3(a)(62)(B) of the Exchange Act is granted.

By the Commission.
Florence E. Harmon,
Acting Secretary.

[FR Doc. E8-29157 Filed 12-9-08; 8:45 am]

BILLING CODE 8011-01-P